DEPARTMENT OF DEFENSE

Office of the Secretary

Board of Regents of the Uniformed Services University of the Health Sciences

AGENCY: Uniformed Services University of the Health Sciences (USU), DoD.

ACTION: Quarterly meeting notice.

SUMMARY: Under the provisions of the Federal Advisory Committee Act of 1972 (5 U.S.C., Appendix, as amended) and the Sunshine in the Government Act of 1976 (5 U.S.C. 552b, as amended), this notice announces that the Board of Regents of the Uniformed Services University of the Health Sciences (USU) will meet on February 2, 2010. Subject to the availability of space, the meeting is open to the public.

DATES: The meeting will be held from 7:30 a.m. to 12:30 p.m. on Tuesday, February 2, 2010.

ADDRESSES: The meeting will be held at the Everett Alvarez Jr. Board of Regents Room (D3001), Uniformed Services University of the Health Sciences, 4301 Jones Bridge Road, Bethesda, Maryland 20814.

FOR FURTHER INFORMATION CONTACT: Janet S. Taylor, Designated Federal Official, 4301 Jones Bridge Road, Bethesda, Maryland 20814; telephone 301-295-3066. Ms. Taylor can also provide base access procedures.

SUPPLEMENTARY INFORMATION: Meetings of the Board of Regents assure that USU operates in the best traditions of academia. An outside Board is necessary for institutional accreditation.

Agenda

The actions that will take place include the approval of minutes from the Board of Regents Meeting held November 5, 2009; acceptance of reports from working committees; approval of faculty appointments and promotions; and the awarding of master's and doctoral degrees in the biomedical sciences and public health. The President, USU and the Vice President, USU Office of Research will also present reports. These actions are necessary for the University to pursue its mission, which is to provide outstanding health care practitioners and scientists to the uniformed services.

Meeting Accessibility

Pursuant to Federal statute and regulations (5 U.S.C. 552b, as amended, and 41 CFR 102-3.140 through 102-3.165) and the availability of space, this meeting is open to the public. Seating is on a first-come basis.

Written Statements

Interested persons may submit a written statement for consideration by the Board of Regents. Individuals submitting a written statement must submit their statement to the Designated Federal Official (see FOR FURTHER INFORMATION CONTACT). If such statement is not received at least 10 calendar days prior to the meeting, it may not be provided to or considered by the Board of Regents until its next open meeting. The Designated Federal Official will review all timely submissions with the Board of Regents Chairman and ensure such submissions are provided to Board of Regents Members before the meeting. After reviewing the written comments, submitters may be invited to orally present their issues during the February 2010 meeting or at a future meeting.

Dated: January 7, 2010.
Mitchell S. Bryman,
Alternate OSD Federal Register Liaison Officer, Department of Defense.

[FR Doc. 2010-393 Filed 1-12-10; 8:45 am]

BILLING CODE 5001-06-P